DEPARTMENT OF TRANSPORTATION

National Highway Traffic Safety Administration

[Docket No. NHTSA-2011-0126]

Reports, Forms and Record Keeping Requirements; Agency Information Collection Activity Under OMB Review

AGENCY: National Highway Traffic Safety Administration (NHTSA), Department of Transportation (DOT).

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on January 2, 2015 [80 FR 99].

DATES: Comments must be submitted on or before August 31, 2015.

ADDRESSES: Send comments, within 30 days, to the Office of Information and Regulatory Affairs, Office of Management and Budget, 725 17th Street NW., Washington, DC 20503, Attention NHTSA Desk Officer.

FOR FURTHER INFORMATION CONTACT: Kil-Jae Hong, NHTSA, 1200 New Jersey Avenue SE., W52-232, NPO-520, Washington, DC 20590. Ms. Hong's telephone number is (202) 493-0524 and email address is kil-jae.hong@dot.gov.

SUPPLEMENTARY INFORMATION: In compliance with the Paperwork Reduction Act of 1995, NHTSA conducted a qualitative phase of Consumer Research which included Focus Groups. Based upon the qualitative phase research results, NHTSA developed the communications materials its Fuel Economy Consumer Education Program. This notice announces that the ICR for a quantitative study of the communications materials, abstracted below, has been forwarded to OMB requesting review and comment. The ICR describes the nature of the information collection and its expected burden. This is a request for new collection.

Title: 49 CFR 575—Consumer Information Regulations (sections 103 and 105) Quantitative Research.

OMB Number: Not Assigned.

Type of Request: New collection.

Abstract: The Energy Independence and Security Act of 2007 (EISA), enacted in December 2007, included a requirement that the National Highway Traffic Safety Administration (NHTSA) develop a consumer information and education campaign to improve consumer understanding of automobile performance with regard to fuel economy, Greenhouse Gases (GHG) emissions and other pollutant emissions; of automobile use of alternative fuels; and of thermal management technologies used on automobiles to save fuel. A critical step in developing the consumer information program was to conduct proper market research to understand consumers' knowledge surrounding these issues, evaluate potential consumer-facing messages in terms of clarity and understand the communications channels in which these messages should be present. The research allowed NHTSA to refine messaging to enhance comprehension and usefulness and help guide the development of an effective communications plan. The consumer market research informed NHTSA that digital assets would be the best format and distribution through web and mobile channels would be the best media. The assets being tested during this quantitative study are a result from the qualitative focus groups, and include an animated infographic, video, and fact sheets.

Affected Public: Passenger vehicle consumers.

Estimated Total Annual Burden: 666.67 hours.

Number of Respondents: 2,000.

The estimated annual burden hour for the online survey is 666.67 hours. Based on the Bureau of Labor and Statistics' median hourly wage (all occupations) in the May 2013 National Occupational Employment and Wage Estimates, NHTSA estimates that it would cost an average of $16.87 per hour if all respondents were interviewed on the job. Therefore, the agency estimates that the cost associated with the burden hours is $11,247 ($16.87 per hour x 666.67 interviewing hours).

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. Comment to OMB is most effective if OMB receives it within 30 days of publication.

Colleen Coggins,
Acting Senior Associate Administrator, Policy and Operations.

[FR Doc. 2015-18648 Filed 7-29-15; 8:45 am]

BILLING CODE 4910-59-P